DEPARTMENT OF THE INTERIOR

National Park Service

[NPS-FOVA-NPS33107; PPPWFOVAA0 PPMPSAS1Z.Y00000]

Fort Vancouver National Historic Site; Relinquishment of Exclusive Jurisdiction

AGENCY: National Park Service, Interior.

ACTION: Notice.

SUMMARY: On behalf of the United States, the National Park Service has relinquished jurisdiction to the State of Washington in order to establish concurrent legislative jurisdiction over certain lands owned and administered by the National Park Service, known as the East and South Barracks, at Fort Vancouver National Historic Site.

DATES: Concurrent legislative jurisdiction within the East and South Barracks at Fort Vancouver National Historic Site became effective on October 5, 2022.

FOR FURTHER INFORMATION CONTACT: Tracy Fortmann, Superintendent, Fort Vancouver National Historic Site, 612 E Reserve Street, Vancouver, WA 98661-3811; telephone: 360-816-6205; email: Tracy_Fortmann@nps.gov.

SUPPLEMENTARY INFORMATION: On June 8, 1981, the Director of the National Park Service (NPS) relinquished jurisdiction and the Governor of the State of Washington accepted concurrent jurisdiction at Fort Vancouver National Historic Site. On May 22, 2012, the Department of Army transferred the East and South Barracks (“Barracks”) to the NPS for inclusion in the Fort Vancouver National Historic Site. On October 5, 2022, acting in accordance with the provisions of 54 U.S.C. 100754 and Revised Code of Washington section 37.04.050, the Director of the NPS relinquished jurisdiction and the Governor of the State of Washington accepted concurrent jurisdiction over the Barracks, in order to enable the United States and State of Washington to exercise concurrent jurisdiction over the Barracks consistent with the remainder of the Fort Vancouver National Historical Site.

Jennifer Flynn,
Associate Director, Visitor and Resource Protection, National Park Service.

[FR Doc. 2022-23659 Filed 10-28-22; 8:45 am]

BILLING CODE 4312-52-P